DEPARTMENT OF JUSTICE

Notice of Lodging of Consent Decree Under the Toxic Substances Control Act

Notice is hereby given that on June 16, 2009 a proposed Consent Decree in United States v. Wallside, Inc., Civil Action No. 2:09-12317-AC-DAS, was lodged with the United States District Court for the Eastern District of Michigan. The consent decree settles claims against a window manufacturing and replacement corporation located outside of Detroit, Michigan. The claims were brought on behalf of the Environmental Protection Agency (“U.S. EPA”) under the Toxic Substances Control Act, 15 U.S.C. 2601 et seq., and on behalf of the State of Michigan Department of Community Health (“Michigan DCH”) under the Michigan Lead Abatement Act, 1998 Mich. Pub. Acts 219 1 et seq., Mich. Comp. Laws Ann. 333.5451 et seq. The Plaintiffs allege in the complaint that the Settling Defendant failed to make one or more of the disclosures or to complete one or more of the disclosure activities required by Title IV, 406(b) of the Toxic Substances Control Act.

Under the Consent Decree, the Settling Defendant will pay a civil penalty of $100,000 and will certify that it is now in compliance and will continue to comply with residential lead based paint hazard notification requirements. The Settling Defendant will also perform two Supplemental Environmental Projects (“SEPs”). For one SEP the Settling Defendant will provide $350,000 worth of windows to the State of Michigan for installation in housing built before 1978. For the other SEP, the Settling Defendant will voluntarily employ lead safe work practices in advance of being subject to Federal regulations which will become effective in April of 2010 imposing similar lead safe work practices requirements on all renovators of pre-1978 properties.

The Department of Justice will receive for a period of thirty (30) days from the date of this publication comments relating to the Proposed Consent Decree. Comments should be addressed to the Assistant Attorney General, Environment and Natural Resources Division, and either e-mailed to pubcomment-ees.enrd@usdoj.gov or mailed to U.S. Department of Justice, Washington, DC 20044-7611 P.O. Box 7611, U.S. Department of Justice, Washington, DC 20044-7611, and should refer to United States v. Wallside, Inc., D.J. Ref. # 90-5-1-1-08899.

The Proposed Consent Decree may be examined at the office of the United States Attorney for the Eastern District of Michigan, 211 Fort Street, Suite 2001, Detroit, MI 48226 (Attn. Assistant United States Attorney Carolyn Bell-Harbin); and at U.S. EPA Region 5, 77 W. Jackson Blvd., Chicago, IL 60604. During the public comment period, the Consent Decree may also be examined on the following Department of Justice Web site, available at http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $11.25 (25 cents per page reproduction cost) payable to the U.S. Treasury or, if by e-mail or fax, forward a check in that amount to the Consent Decree Library at the stated address.

Maureen Katz,
Assistant Section Chief, Environmental Enforcement Section, Environment and Natural Resources Division.

[FR Doc. E9-14867 Filed 6-23-09; 8:45 am]

BILLING CODE 4410-15-P